DEPARTMENT OF HEALTH AND HUMAN SERVICES

Office of the Secretary

Agency Information Collection Activities; Proposed Collections; Comment Request

The Department of Health and Human Services, Office of the Secretary will periodically publish summaries of proposed information collections projects and solicit public comments in compliance with the requirements of Section 3506(c)(2)(A) of the Paperwork Reduction Act of 1995. To request more information on the project or to obtain a copy of the information collection plans and instruments, call the OS Reports Clearance Office at (202) 619-2118 or e-mail Geerie.Jones@HHS.gov.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project: 1. Survey of SCHIP Administrators for the Congressionally Mandated Evaluation of the State Children's Health Insurance Program—NEW—The Department's Office of the Assistant Secretary for Planning and Evaluation proposes to conduct a survey of state administrators of the State Children's Health Insurance Program (SCHIP). As mandated by the Balanced Budget Refinement Act (BBRA) of 1999 this study is to obtain information about the broader context in which state programs operate, including the political and social context, policy discussions, lessons learned, and key issues facing the program in the next one or two years. Respondents: State and local governments—Number of Respondents: 56; Estimated Burden per Response: 1.12 hours; Total Burden: 63 hours.

Send comments via e-mail to Geerie.Jones@HHS.gov or mail to OS Reports Clearance Office, Room 503H, Huber H. Humphrey Building, 200 Independence Avenue, SW., Washington DC 20201. Comments should be received within 60 days of this notice.

Dated: September 23, 2002.
Kerry Weems,
Deputy Assistant Secretary, Budget.

[FR Doc. 02-25404 Filed 10-4-02; 8:45 am]

BILLING CODE 4154-05-M